DEPARTMENT OF AGRICULTURE

Performance Review Board Membership

AGENCY: Office of Human Resources Management, Departmental Administration.

ACTION: Notice of Performance Review Board appointments.

SUMMARY: This notice lists the approved candidates who will comprise a standing roster on Department of Agriculture's (USDA) Senior Executive Service and Senior Professional Performance Review Boards (PRB), as required by 5 U.S.C. 4314(c)(4). The Department will use this roster to select board members. Agriculture has two PRBs with representatives from each USDA Mission Area. The PRB provides a written recommendation to the Secretary for final approval of each executive's performance rating, performance-based pay adjustment, and performance award. The PRBs are advised by the Office of Human Resources Management, Office of General Counsel, and Office of the Assistant Secretary for Civil Rights to ensure compliance with laws and regulations.

DATES: The board membership is applicable beginning on November 18, 2025.

FOR FURTHER INFORMATION CONTACT: Deedra Fogle, Acting Chief Human Capital Officer, Office of Human Resources Management, telephone: (202) 768-5519, or Tonique Washington, Acting Director, Executive Resources Management Division, telephone: (202) 720-0027.

SUPPLEMENTARY INFORMATION: In accordance with 5 U.S.C. 4314(c)(4), the USDA PRB members are named below:

Abbott, Joseph T.

Alarcon, Juan C.

Allen, Matthew D.

Alonso, Celso B.

Alvares, Christopher P.

Anderson, Wendy S.

Appleton, Brooke S.

Arney, Kenderick S.

Arnold, Michael A.

Aspey II, Louis E.

Bailey, Melissa R.

Baldwin, Brittany L.

Bane, Robert Q.

Barhydt, Richard

Barnes, Kelsey N.

Beam, William L.

Bekkering, Michelle A.

Bender, Stuart A.

Berry, Samuel M.

Bettencourt, Aubrey J.

Biggs, Angela L.

Blum, Gordon E.

Boozer, Astor F.

Bowen, Brigham J.

Bragg, Cedric R.

Brake, Trina L.

Brammer, Steven C.

Brannum, Anthony D.

Briatico, Anna Maria

Brooks, Michele L.

Bruck, Houston E.

Buchanan, Jacqueline A.

Buller, Kailee M.

Carroll, Chad E.

Chandler, Laurence D.

Chester, Deirdra N.

Claeys, Jeremy R.

Clavijo, Alfonso

Coale, Dana H.

Cockrum, Carlynne S.

Collin, Victoria W.

Collins, Brian M.

Cooksey, Richard A.

Crockett, John W

Crosswhite, Caleb J.

Davenport, Jamie L.

Davis, L'Tonya J.

Davis, Willie S.

Dawe, Christine

Dean, Delores A.

Defeo, Valerie F.

Dijab, Adis

Donald, Willisa M.

Drennen, Lorna J.

Duncan, C. Natalie Lui

Dyer, Angelique D.

Dyer, John M.

Eblen, Denise R.

Edelstein, Rachel A.

Eichhorst, John E.

Emmons, Jimmy K.

Erhan, Sevim Z.

Fantinato, Jessica

Farmer, Kevin L.

Faulkner, Matthew A.

Fisher, Andrew D.

Fisher, Sarah R.

Flournoy, Richard H.

Fogle, Deedra D.

Forsyth, Trey M.

French, Christopher B.

Fretz, Abbey L.

Fuller, Cristin E.

Garrett, Mark G.

Gauthier, Julie L.

Gilson, Joseph L.

Gleaton, Elvera T.

Gore, Quvator R.

Goswami, Rubella S.

Graham, Kimberly V.

Graves, Alexis R.

Greene Jr., John E.

Griffin, William H.

Gross, Tonye B.

Guo, Ruihong

Gusky, Steven L.

Gutman, Theodore H.

Hafemeister, Jason T.

Hall II, Galon I.

Hall-Rivera, Jaelith L.

Harwood, Joy L.

Hawley, Carson.

Haylock, Camille K.

Heath, Linda S.

Heithecker, Troy D.

Helming, Sarah J.

Herbert, Noller P.

Hernandez Elvira, Cecilia A.

Hill, Laura L.

Hillsman, Terron L.

Hipkins, Valerie D.

Hohenstein, William G.

Honig, Lance L.

Hunter, Karen H.

Hutson, Vivian T.

Ibarra, Robert

Ingersoll, Jeremiah C.

Irechukwu, Chizo.

Jackson, Kimberly R.

Jackson, Michael J.

James, Rosalind R.

Jekanowski, Mark D.

Jin, Wendy W.

Johnson, Jay V.

Johnson, Sherri N.

Jordan Jr., James E.

Joshua, Troy M.

Joubert, Jacob M.

Juarez, Bernadette R.

Kalavacharla, Venugopal

Kelly III, George J.

Kim, Mina

Knupp, Courtney L.

Kochan, Gena R.

Koolick, Tracy L.

Kovacs, Patricia S.

Kruman, Elizabeth M.

Lalli, Donna A.

Lapitan, Nora L.

Lauster, Aaron L.

Lautner, Elizabeth A.

Leconte, Cara E.

Leverrier, Laurel S.

Lichtenstein, Mark E.

Linden, Ralph A.

Lindsey, Todd J.

Lippold, Eric M.

Lohr, Steven M.

Lucas Jr., Richard C.

Lytle, David E.

Mahalingappa, Jessica S.

Makhdoomi, Muhammad M.

Manzano, Heather L.

Martin, Michiko J.

Martinez Flores, Astrid D.

Matthews, David W.

Mayes, Carl A.

Mays, Clyde

McCrosson, Timothy D.

McDaniel, Jody

McGillicuddy, Jennifer M.

Mcguire, Jennifer T.

McHugh, Tara H.

McLean, Christopher

McWhirter, Jay D.

Mechtly, Christine D.

Meighan, Terri E.

Mezainis, Valdis E.

Mizoguchi, Brian A.

Moaney, Lynn M.

Modder, Donald J.

Moore, Kelly L.

Moore, Melissa M.

Morris, Erin

Moses, Denessa

Mulach, Ronald W.

Nakanishi, Brian T.

Narrod, Clare A.

Nelson, Christopher D.

Nickerson, Cynthia J.

Nieto, Erica J.

Northrop, Lisa

O'Connor, Kathryn R.

Oates, Kristy N.

Oubichon, Michon M.

Owens, Tameka A.

Park, Joon

Parsons, Joseph L.

Patel-Weynand, Toral

Penn, Patrick A.

Perry, Andrew

Perry, Tracy S.

Peters, David A.

Peterson, Steven J.

Pierson Jr., Frederick B.

Pillai, Bhinu V-S.

Porter, Jennifer G.

Purdy, Christopher A.

Ramirez, Lisa

Randall, Anzanette C.

Ransom, Justin R.

Raymond, Lance D.

Raynor, Jerry C.

Reed, Jeremy T.

Regonlinski, April A.

Rhoads, Matthew A.

Rice, Mary Pletcher

Rich, Joseph O.

Ripley, Ingrid

Robbins, Jonathan N.

Rothlisberger, John D.

Russo, Nicole L.

Sadeghzadeh, Kaveh C.

Samuel-Foo, Michelle S.

Schroeder, Ricki G.

Schultz Jr., Thomas M.

Schur, Brianna W.

Sellari, Leigh A.

Selzer, Kenneth A.

Shaqir, Ibrahim M.

Shaw Jr., William K.

Shea, John P.

Shultzabarger, Ellen M.

Sidrak, Hany Z.

Sifford, Rosemary B.

Silverstein, Jeffrey

Simon, Samantha J.

Slagell, Alison L.

Sleeper, Kristin A.

Slupek, Mark A.

Smith, Gregory C.

Snyder, Angela C.

St. Clair, Patricia L.

Stewart, Tucker A.

Still, Eric D.

Stuckey, Carla A.

Stulberg, Michael J.

Stump, Lauren W.

Suarez Oliva, C.

Suckow, Jason R.

Suveyke-Bogin, Simchah Z.

Swanson, Patricia R.

Swanson, Stacy A.

Syron, Lindsey C.

Taylor, Kasey L.

Taylor, Willie C.

Terrell, Tina J.

Thomas, Carrie A.

Tiller, Jennifer

Tohamy, Soumaya M.

Tolle, Francie K.

Toombs, Dionne F.

Tucker, Archie

Tucker, Jennifer

Tuckwiller, Jack D.

Variyam, Jayachandran N.

Velasco, Robert

Vos, John P.

Ward, Todd J.

Washington, Doris G.

Watson, Michael T.

Watts, Sarita W.

Weeks, Andria D.

Wehner, Keith P.

Wenberg, Michelle W.

West, Cynthia D.

Whetstone II, King J.

Whitley, Daniel B.

Williams, Drenda

Williams, Scott J.

Wilson, Beattra S.

Witte, Jeremy M.

Woodrich, Karen A.

Deedra Fogle,
Acting Chief Human Capital Officer, Office of Human Resources Management.

[FR Doc. 2025-23255 Filed 12-17-25; 8:45 am]

BILLING CODE 3410-96-P